DEPARTMENT OF TRANSPORTATION

Federal Railroad Administration

Petition for Waiver of Compliance

In accordance with part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

Santa Clara Valley Transportation Authority (VTA) (Supplemental Waiver Petition Docket Number FRA-1999-6254)

As a supplement to VTA's existing Shared Use/Temporal Separation waiver, originally granted by the FRA on July 7, 2000 (a six month extension was granted on June 29, 2005 to accommodate the time needed for this Supplemental Petition process), VTA seeks a permanent waiver of compliance from sections of Title 49 of the CFR for operation of its new Vasona Corridor Light Rail Project Extension (Vasona Line) which features “limited connections” such as a shared corridor operation and an at-grade rail crossing of the light rail track by a UPRR freight spur within this shared corridor. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

In this regard, VTA has constructed this new extension of its 37-mile light rail system on 5 miles of the existing 15 mile long Union Pacific Railroad (UPRR) Vasona Industrial Lead. This new light rail operation will serve the cities of southwest San Jose, CA and Campbell, CA and is scheduled to open on August 12, 2005. VTA owns this 5 mile long portion of the shared corridor. As such, VTA and UPRR have executed an Operations and Maintenance Agreement, which includes an exclusive operating easement, allowing UPRR to fulfill its obligations as a common carrier of freight by continuing its existing freight operations within the purchased corridor. This agreement requires VTA to inspect, maintain, and repair all tracks, signal systems and automatic warning devices along the freight track within that portion of the corridor shared with LRT tracks (VTA and UPRR operate on separate tracks within this corridor). UPRR presently operates two to three round-trip freight trains each week, during daylight hours, over this shared corridor, at speeds not exceeding 25 mph. To avoid impacts to the surrounding communities, freight operations will continue to operate during daylight hours.

In order for UPRR to continue to provide service to a flooring businesses along this shared corridor in San Jose, CA, VTA is seeking a permanent waiver of compliance from Title 49 of the CFR for operation of its new Vasona Light Rail Line over an at-grade rail crossing “limited connection” with a UPRR freight spur switched from the Vasona Lead at MP0.41 Race Interlocking. For this crossing, VTA seeks permanent waiver of compliance from sections of title 49 of the CFR, specifically: part 214, subpart B Bridgeworker Safety Standards, subpart C Roadway Worker Protection, part 217 Railroad Operating Rules, part 219 Control of Alcohol and Drug Use, part 220 Railroad Communications, part 221 Rear End Marking Devices, part 223 Safety Glazing Standards, part 225 Accident Reporting, part 228.17(a)(2) Hours of Service (for VTA dispatchers only), part 229 Locomotive Safety Standards, part 231 Railroad Safety Appliances, part 233 Signal Systems Reporting Requirements, part 236 Signal and Train Control Systems, Devices and Appliances-Interlocking, part 238 Passenger Equipment Safety Standards, and part 239 Passenger Emergency Preparedness.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-6254) and must be submitted to the Docket Clerk, DOT Docket Management Facility, Room PL-401 (Plaza Level), 400 7th Street, SW., Washington, DC 20590. Communications received within 30 days of the date of this notice will be considered by FRA before final action is taken. Comments received after that date will be considered as far as practicable. Nevertheless, in view of the fact that VTA intends to commence operations on August 12, 2005, FRA reserves the right to grant temporary relief prior to the expiration of the comment period so that rail service may be instituted as scheduled. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on July 14, 2005.
Grady C. Cothen, Jr.,
Deputy Associate Administrator for Safety Standards and Program Development.

[FR Doc. 05-14340 Filed 7-20-05; 8:45 am]

BILLING CODE 4910-06-P